DEPARTMENT OF LABOR

Employment and Training Administration

Investigations Regarding Certifications of Eligibility to Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2001.

Interested persons are invited to submit written comments regarding the subject matter of the investigations to the Director, Division of Trade Adjustment Assistance, at the address shown below, not later than November 16, 2001.

The petitions filed in this case are available for inspection at the Office of the Director, Division of Trade Adjustment Assistance, Employment and Training Administration, U.S. Department of Labor, Room C-5311, 200 Constitution Avenue, NW., Washington, DC 20210.

Signed at Washington, D.C. this 28th day of September, 2001.
Edward A. Tomchick,
Director, Division of Trade Adjustment Assistance.

Appendix.—Petitions Instituted On 09/28/2001
TA-W | Subject firm (petitioners) | Location | Date of petition | Product(s)
40,106 | Haskell—Senator Int'l (Wrks) | Verona, PA | 09/07/2001 | Chairs.
40,107 | Continental Accessories (Wrks) | Sturgis, MI | 09/07/2001 | Running Boards, Tool Boxes.
40,108 | American and Efird, Inc. (Co.) | Mt. Holly, NC | 09/11/2001 | Sewing Thread.
40,109 | Innovex, Inc (Wrks) | Litchfield, MN | 09/11/2001 | Flexible Circuits.
40,110 | Delta Woodside Industries (Co.) | Fountain Inn, SC | 09/14/2001 | Cotton Twill Fabric.
40,111 | CMS Hartzell (Wrks) | Richmond, KY | 09/17/2001 | Metal Stamping and Assembly.
40,112 | Loparex, Inc (Co.) | West Chicago, IL | 09/18/2001 | Pressure Sensitive Postage Stamps.
40,113 | Kings Mountain Hosiery (Co.) | Kings Mountain, NC | 09/17/2001 | Socks.
40,114 | Phoenix Apparel Resources (Co.) | Sanford, NC | 09/19/2001 | Sportswear.
40,115 | Sunrise Apparel, Inc. (Co.) | Concord, NC | 09/19/2001 | Ladies' and Men's Knit Shirts.
40,116 | Metro Fabrics, Inc. (Wrks) | New York, NY | 09/10/2001 | Women's Wear Apparel Fabric.
40,117 | Drake Extrusion (Wrks) | Spartanburg, SC | 09/05/2001 | Fibers—Clothes, Other Textiles.
40,118 | Displaytech, Inc. (Wrks) | Longmount, CO | 09/06/2001 | Liquid Crystal Micro Display.
40,119 | Tennford Weaving (Wrks) | Sanford, ME | 09/17/2001 | Woven Lables.
40,120 | Guardian Life Insurance (Wrks) | New York, NY | 09/17/2001 | Software Development.
40,121 | Connolly North America (Co.) | El Paso, TX | 09/12/2001 | Finished Hides.
40,122 | Texfi Industries (Co.) | Haw River, NC | 09/17/2001 | Dyed and Finished Knit Fabric.
40,123 | Crown Pacific Limited (Wrks) | Coeur d'Alene, ID | 09/15/2001 | Sawmill.
40,124 | Krones, Inc. (Wrks) | Milwaukee, WI | 09/17/2001 | Labelling Machines.
40,125 | Arrow/SI (Wrks) | Winsted, CT | 09/13/2001 | Replacement Parts—Textile Industry.
40,126 | Miller Bag Co (Co.) | Freeman, SD | 09/17/2001 | Grass Catcher Bags.
40,127 | Peak Oilfield Service Co (Co.) | Anchorage, AK | 09/14/2001 | Oilfield Services.
40,128 | TNS Mills, Inc. (Wrks) | Eufaula, AL | 09/14/2001 | Ring Spun Yarn.
40,129 | Partek Forest, LLC (Co) | Gladstone, MI | 09/17/2001 | Forestry Equipment.
40,130 | Greenway Manufacturing Co (Co.) | Spartanburg, SC | 09/11/2001 | Girl's Slips and Sleepwear.
40,131 | Levcor International (Wrks) | New York, NY | 09/14/2001 | Fabrics for Apparel.
40,132 | Satilla Manufacturing (Wrks) | Blackshear, GA | 09/14/2001 | Outerwear Jackets.
40,133 | Eagle Knitting Mills, Inc. (UNITE) | Shawano, WI | 08/24/2001 | Sportswear.
40,134 | Commodore Hat Co., Inc. (Wrks) | New York, NY | 09/05/2001 | Designers and Sales—Hats.
40,135 | GKN Aerospace North Amer. (Wrks) | Carson, CA | 08/28/2001 | Aerospace Equipment.
40,136 | Emesson Process Management (Wrks) | McKinney, TX | 09/11/2001 | Regulators and Valves.
40,137 | American Trouser, Inc. (Co.) | Columbus, MS | 09/12/2001 | Men's Dress and Casual Slacks.
40,138 | Cross Creek Apparel (Co.) | Mount Airy, NC | 09/13/2001 | Knit Shirts.
40,139 | Volvo Construction Equip (Co.) | Skyland, NC | 09/13/2001 | Heavy Construction Equipment.
40,140 | Wormser Knitting Mills (Co.) | Charlotte, NC | 09/10/2001 | Children's Sleepwear.
40,141 | Findlay Industries (Wrks) | Ohio City, OH | 09/05/2001 | Seat Covers.
40,142 | Brunswick Corp—Mercury (IAMAW) | Fond du Lac, WI | 09/10/2001 | Outboard Engines and Parts.
40,142 | Quality Apparel, Inc. (Co.) | Dillon, SC | 09/10/2001 | Ladies' Pants.
40,144 | Pea Ridge Iron Ore Co (Wrks) | Sullivan, MO | 09/14/2001 | Iron Ore Fines, Pellet Feed.
40,145 | West Point Stevens (Wrks) | Whitemire, SC | 09/14/2001 | Yarn.
40,146 | Scottsboro Aluminum LLC (USWA) | Scottsboro, AL | 09/11/2001 | Sheet Aluminum—Welded Tube.
40,147 | Guilford Mills, Inc. (Co.) | Cableskill, NY | 09/21/2001 | Fabric and Apparel.
40,148 | PPG Industries Fiberglass (Co.) | Shelby, NC | 09/04/2001 | Fiberglass Fabric.
40,149 | Alphabet Engineer Design (Wrks) | Cortland, OH | 09/01/2001 | Mechanical Components.
40,150 | Tyco Electronics (Wrks) | Mt. Sidney, VA | 08/27/2001 | Mod-Plug Tooling.
40,151 | Sara Lee Hosiery (Co.) | Yadkinville, NC | 09/12/2001 | Pantyhose.
40,152 | Butech, Inc. (Co.) | Salem, OH | 09/18/2001 | Metal Cutting and Handling Equipment.
40,153 | Burkart Foam, Inc. (IAMAW) | Cairo, IL | 09/20/2001 | Foam Products, Carpet Underlay.
40,154 | E-H Baare (IAMAW) | Robinson, IL | 09/09/2001 | Fan Guards.

[FR Doc. 01-27802 Filed 11-5-01; 8:45 am]

BILLING CODE 4510-30-M